DEPARTMENT OF DEFENSE

Office of the Secretary

Proposed Collection; Comment Request

AGENCY: Office of the Under Secretary of Defense (Acquisition, Technology & Logistics), DoD.

ACTION: Notice.

SUMMARY: In compliance with section 3506(c)(2)(A) of the Paperwork Reduction Act of 1995, the Office of the Under Secretary of Defense (Acquisition, Technology & Logistics) announces a proposed public information colleciton and seeks public comment on the provisions thereof. Comments are invited on: (a) Whether the proposed collection of information is necessary for the proper performance of functions of the Agency, including whether the information shall have practical utility; (b) the accuracy of the Agency's estimate of the burden of the proposed information collection; (c) ways to enhance the quality, utility, and clarity of the information to be collected; and (d) ways to minimize the burden of the information collected on respondents, including through the use of automated collection techniques or other forms of information technology.

DATES: Consideration will be given to all comments received by February 1, 2002.

ADDRESSES: Written comments and recommendations on the proposed information collection should be sent to the Office of the Director, Acquisition Initiatives, ATTN: Dr. Jay Mandelbaum, 3620 Defense Pentagon, Washington, DC 20301-3620.

FOR FURTHER INFORMATION CONTACT: To request more information on this proposed information collection or to obtain a copy of the proposal and associated collection instruments, please write to the above address, or call Office of the Director, Acquisition Initiatives, at 703-614-3882.

Title: Defense Suppliers Customer Satisfaction Diagnostic Survey.

Needs and Uses: The information collection is necessary to determine the reasons for supplier satisfaction/dissatisfaction with Defense acquisition processes. The information will be used to improve Defense acquisition processes to assure supplier satisfaction.

Affected Public: Business or other for profit.

Annual Burden Hours: 95.

Number of Respondents: 380.

Responses per Respondent: 1.

Average Burden per Response: 15 minutes.

Frequency: Annually.

SUPPLEMENTARY INFORMATION:

Summary of the Information Collection

DoD has identified three activities that interface with its suppliers and are relevant for acquisition improvement. These are providing information that contractors need to do business with DoD, establishing a business relationship with each contractor, and then maintaining that business relationship on a long-term basis. The best leverage for improving the overall satisfaction of suppliers is in improving the relationships DoD maintains with them. The proposed collection has been designed to diagnose problems with supplier customer satisfaction. This feedback will be used to formulate policies, programs and practices for improving the level of supplier customer satisfaction. A web-based survey is planned for the supplier diagnostic survey. The survey instrument will be posted on the web, and suppliers will be sent invitations via e-mail to access the web site and complete the survey instrument. The basis for this method is that the cost and time for the survey could be reduced, minimizing the burden on the supplier base.

Dated: November 27, 2001.
Patricia L. Toppings,
Alternate OSD Federal Register Liaison Officer, Department of Defense.

[FR Doc. 01-29843 Filed 11-30-01; 8:45 am]

BILLING CODE 5001-08-M